DEPARTMENT OF LABOR

Office of the Secretary

Office of the Assistant Secretary for Administration and Management; Request for Comments on the Draft DOL FY 2018-2022 Strategic Plan

AGENCY: Office of the Secretary, Labor.

ACTION: Request for comments on the draft DOL FY 2018-2022 strategic plan.

SUMMARY: The Department of Labor (DOL) is seeking public comment on its Draft FY 2018-2022 Strategic Plan.

DATES: Comments must be received by December 7, 2017.

ADDRESSES: Comments can be provided by email to dolstratplan@dol.gov.

FOR FURTHER INFORMATION CONTACT: Steve Richardson, Office of the Assistant Secretary for Administration and Management, Performance Management Center, (202) 693-7122.

SUPPLEMENTARY INFORMATION: The Department of Labor's Draft FY 2018-2022 Strategic Plan is provided to satisfy a requirement of the Government Performance and Results Modernization Act (GPRMA) that agency stakeholders have an opportunity to comment. This plan presents the Secretary's vision, the Department's mission, and a description of how component agencies will achieve supporting goals and strategic objectives in the next four years. We look forward to receiving your comments. The text of the draft strategic plan is available in pdf on the Department of Labor Web site at https://www.dol.gov/agencies/osec/stratplan.

Dated: November 1, 2017.
Bryan Slater,
Assistant Secretary for Administration and Management.

[FR Doc. 2017-24212 Filed 11-6-17; 8:45 am]

BILLING CODE 4510-04-P